POSTAL SERVICE

39 CFR Part 232

Conduct on Postal Property; Penalties and Other Law

AGENCY: Postal Service.

ACTION: Final rule.

SUMMARY: The U.S. Postal Service is amending the Code of Federal Regulations to retract an increase in the maximum penalty for violations of the rules concerning conduct on Postal Service property.

DATES: Effective Date: May 20, 2010.

FOR FURTHER INFORMATION CONTACT: Elizabeth P. Martin, General Counsel, Office of Inspector General, (703) 248-2100.

SUPPLEMENTARY INFORMATION: On January 27, 2010, the Postal Service published an amendment to the Code of Federal Regulations concerning the maximum penalty for a violation of the rules governing conduct on Postal Service property (75 FR 4273). The former rules had established the maximum penalty for a violation as a fine of not more than $50 or imprisonment of not more than 30 days, or both. As revised by that notice, the maximum penalty for a violation was increased to a fine of not more than that allowed under title 18 of the United States Code or imprisonment of not more than 30 days, or both.

Since the publication of this amendment, the Postal Service has determined that it is necessary to revisit this matter, and to re-examine the text of the rule for clarity, specificity, and contractual compliance. For this reason, the Postal Service has determined that it is appropriate to amend the relevant provision once again to re-establish the maximum penalty in effect before the effective date of the previous notice, January 27, 2010.

List of Subjects in 39 CFR Part 232

Authority delegations (Government agencies), Crime, Federal buildings and facilities, Government property, Law enforcement officers, Postal Service, Security measures.

For the reasons stated in the preamble, the Postal Service amends 39 CFR part 232 as set forth below:

PART 232—CONDUCT ON POSTAL PROPERTY

1. The authority citation for part 232 continues to read as follows:

Authority: 18 U.S.C. 13, 3061; 21 U.S.C. 802, 844; 39 U.S.C. 401, 403(b)(3), 404(a)(7), 1201(2).

2. In § 232.1, paragraph (p)(2) is revised to read as follows:

§ 232.1 Conduct on postal property.

* * * * *

(p) * * *

(2) Whoever shall be found guilty of violating the rules and regulations in this section while on property under the charge and control of the Postal Service is subject to a fine of not more than $50 or imprisonment of not more than 30 days, or both. Nothing contained in these rules and regulations shall be construed to abrogate any other Federal laws or regulations or any State and local laws and regulations applicable to any area in which the property is situated.

* * * * *

Stanley F. Mires,
Chief Counsel, Legislative.

[FR Doc. 2010-12122 Filed 5-19-10; 8:45 am]

BILLING CODE 7710-12-P